DEPARTMENT OF HEALTH AND HUMAN SERVICES

Health Resources and Services Administration

Advisory Commission on Childhood Vaccines (ACCV); Notice of Meeting

In accordance with section 10(a)(2) of the Federal Advisory Committee Act (Pub. L. 92-463), notice is hereby given of the following advisory committee meeting. The meeting will be open to the public.

Name: Advisory Commission on Childhood Vaccines (ACCV).

Date and Time: March 5, 2003; 9 a.m.-2:45 p.m.

Place: Audio conference call, and Ramada Inn, 1775 Rockville Pike, Georgetown Conference Room, Rockville, Maryland 20852.

The full ACCV will meet on Wednesday, March 5, from 9 a.m. to 2:45 p.m. The public can join the meeting in person at the address listed above or by audio conference call by dialing 1-888-928-9122 on March 5 and providing the following information:

Leader's Name: Thomas E. Balbier, Jr.

Password: ACCV.

Agenda: The agenda items for March 5 will include, but are not limited to: A presentation on the Institute of Medicine's report “Potential Role of Vaccination in Sudden Unexplained Death in Infancy”; an overview of the Stevens v. HHS Decision; a discussion and application of a proposed alternative standard for the adjudication of off-Table claims; and updates from the Division of Vaccine Injury Compensation, the Department of Justice, and the National Vaccine Program Office. Agenda items are subject to change as priorities dictate.

Public Comments: Persons interested in providing an oral presentation should submit a written request, along with a copy of their presentation to: Ms. Cheryl Lee, Principal Staff Liaison, Division of Vaccine Injury Compensation, Office of Special Programs, Health Resources and Services Administration, Room 16C-17, 5600 Fishers Lane, Rockville, MD 20857 or by e-mail at clee@hrsa.gov. Requests should contain the name, address, telephone number, and any business or professional affiliation of the person desiring to make an oral presentation. Groups having similar interests are requested to combine their comments and present them through a single representative. The allocation of time may be adjusted to accommodate the level of expressed interest. The Division of Vaccine Injury Compensation will notify each presenter by mail or telephone of his/her assigned presentation time. Persons who do not file an advance request for a presentation, but desire to make an oral statement, may announce it at the time of the comment period on the audio conference call. These persons will be allocated time as time permits.

For Further Information Contact: Anyone requiring information regarding the ACCV should contact Ms. Cheryl Lee, Principal Staff Liaison, Division of Vaccine Injury Compensation, Office of Special Programs, Health Resources and Services Administration, Room 16C-17, 5600 Fishers Lane, Rockville, Maryland 20857, telephone (301) 443-2124 or e-mail: clee@hrsa.gov.

Dated: February 19, 2003.
Jane M. Harrison,
Director, Division of Policy Review and Coordination.

[FR Doc. 03-4351 Filed 2-24-03; 8:45 am]

BILLING CODE 4165-15-P